SMALL BUSINESS ADMINISTRATION

[Declaration of Disaster # 3465]

State of West Virginia

Jackson County and the contiguous counties of Kanawha, Mason, Putnam, Roane, Wirt and Wood in the State of West Virginia; and Meigs County in the State of Ohio constitute a disaster area as a result of a series of strong storms that occurred on November 10, 2002. Applications for loans for physical damage may be filed until the close of business on January 17, 2003, and for economic injury until the close of business on August 18, 2003, at the address listed below or other locally announced locations: U.S. Small Business Administration, Disaster Area 1 Office, 360 Rainbow Blvd., South 3rd Floor, Niagara Falls, NY 14303.

The interest rates are:

| Percent
For Physical Damage:
Homeowners With Credit Available Elsewhere: | 5.875
Homeowners Without Credit Available Elsewhere: | 2.937
Businesses With Credit Available Elsewhere: | 6.648
Businesses and Non-profit Organizations Without Credit Available Elsewhere: | 3.324
Others (Including Non-profit Organizations) With Credit Available Elsewhere | 5.500
For Economic Injury: Businesses and Small Agricultural Cooperatives Without Credit Available Elsewhere: | 3.324

The number assigned to this disaster for physical damage is 346511for West Virginia and 346611 for Ohio. The number assigned to this disaster for economic injury is 9S6100 for West Virginia and 9S6200 for Ohio.

(Catalog of Federal Domestic Assistance Program Nos. 59002 and 59008.)
Dated: November 18, 2002.
Hector V. Barreto,
Administrator.

[FR Doc. 02-29912 Filed 11-22-02; 8:45 am]

BILLING CODE 8025-01-P